DEPARTMENT OF TRANSPORTATION

Federal Aviation Administration

14 CFR Part 39

[Docket No. FAA-2021-0948; Project Identifier MCAI-2020-00394-R; Amendment 39-21883; AD 2021-26-24]

RIN 2120-AA64

Airworthiness Directives; Leonardo S.p.a. (Type Certificate Previously Held by Agusta S.p.A.) Helicopters

AGENCY: Federal Aviation Administration (FAA), DOT.

ACTION: Final rule.

SUMMARY: The FAA is adopting a new airworthiness directive (AD) for certain Leonardo S.p.a. (type certificate previously held by Agusta S.p.A.) Model A109A and A109A II helicopters. This AD was prompted by a report of internal corrosion on a main rotor (M/R) blade. This AD requires repetitively inspecting affected M/R blades and accomplishing film analysis and repair in accordance with certain approved methods. The FAA is issuing this AD to address the unsafe condition on these products.

DATES: This AD is effective February 22, 2022.

The Director of the Federal Register approved the incorporation by reference of a certain publication listed in this AD as of February 22, 2022.

ADDRESSES: For Leonardo Helicopters service information identified in this final rule, contact Leonardo S.p.A. Helicopters, Emanuele Bufano, Head of Airworthiness, Viale G.Agusta 520, 21017 C.Costa di Samarate (Va) Italy; telephone +39-0331-225074; fax +39-0331-229046; or at https://customerportal.leonardocompany.com/en-US/. You may view this material at the FAA, Office of the Regional Counsel, Southwest Region, 10101 Hillwood Pkwy., Room 6N-321, Fort Worth, TX 76177. For information on the availability of this material at the FAA, call (817) 222-5110. It is also available in the AD docket at https://www.regulations.gov by searching for and locating Docket No. FAA-2021-0948.

Examining the AD Docket

You may examine the AD docket at https://www.regulations.gov by searching for and locating Docket No. FAA-2021-0948; or in person at Docket Operations between 9 a.m. and 5 p.m., Monday through Friday, except Federal holidays. The AD docket contains this final rule, the European Union Aviation Safety Agency (EASA) AD, any comments received, and other information. The address for Docket Operations is U.S. Department of Transportation, Docket Operations, M-30, West Building Ground Floor, Room W12-140, 1200 New Jersey Avenue SE, Washington, DC 20590.

FOR FURTHER INFORMATION CONTACT: Kristi Bradley, Program Manager, COS Program Management Section, Operational Safety Branch, FAA, 10101 Hillwood Pkwy., Fort Worth, TX 76177; telephone (817) 222-5110; email kristin.bradley@faa.gov.

SUPPLEMENTARY INFORMATION:

Background

The FAA issued a notice of proposed rulemaking (NPRM) to amend 14 CFR part 39 by adding an AD that would apply to Leonardo S.p.a. (type certificate previously held by Agusta S.p.A.) Model A109A and A109A II helicopters with an M/R blade part number (P/N) 109-0103-01-115 installed. The NPRM published in the Federal Register on October 29, 2021 (86 FR 59890). In the NPRM, the FAA proposed to require repetitively radiographic inspecting each affected M/R blade and accomplishing film analysis and repair in accordance with certain approved methods. The NPRM was prompted by EASA AD 2020-0065, dated March 20, 2020 (EASA AD 2020-0065), issued by EASA, which is the Technical Agent for the Member States of the European Union, to correct an unsafe condition for all Leonardo S.p.A., Agusta S.p.A., Costruzioni Aeronautiche Giovanni Agusta Model A109A and A109AII helicopters. EASA advises of a report of internal corrosion on an M/R blade. Leonardo Helicopters advises that the corrosion was on the spar near the inertia weights between STA1250 and STA1630. Leonardo Helicopters further advises that the issue is related to design and production processes of the M/R blades. This condition, if not addressed, could result in failure of an M/R blade and subsequent loss of control of the helicopter.

Accordingly, EASA AD 2020-0065 requires inspecting M/R blades P/N 109-0103-01-115 and depending on the results, corrective action. EASA AD 2020-0065 also prohibits installation of an affected M/R blade unless it passed the required inspection within 24 months prior to installation on a helicopter.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters. Except for minor editorial changes, this AD is adopted as proposed in the NPRM.

Related Service Information Under 1 CFR Part 51

The FAA reviewed Leonardo Helicopters Alert Service Bulletin No. 109-155, dated March 13, 2020 (ASB 109-155), for Leonardo S.p.a. Model A109A and A109AII helicopters. This service information specifies procedures for X-ray inspecting M/R blades P/N 109-0103-01-115 and sending the films to Leonardo Helicopters S.p.a. for analysis. Depending on the outcome, ASB 109-155 specifies procedures for re-identifying the M/R blades.

This material is reasonably available because the interested parties have access to it through their normal course of business or by the means identified in the ADDRESSES section.

Interim Action

The FAA considers this AD an interim action. The design approval holder is currently developing a modification that will address the unsafe condition identified in this AD. Once this modification is developed, approved, and available, the FAA might consider additional rulemaking.

Differences Between This AD and the EASA AD

The compliance time in EASA AD 2020-0065 is time-in-service of the airframe, whereas the compliance time in this AD is time-in-service of the affected M/R blade as installed on the airframe. EASA AD 2020-0065 requires sending developed films to Leonardo Helicopters S.p.a. for analysis and contacting Leonardo for approved corrective action(s) instructions, whereas this AD requires film analysis and repair of an affected blade in accordance with a method approved by the Manager, General Aviation & Rotorcraft Section, International Validation Branch, FAA; or EASA; or Leonardo S.p.a Helicopters' EASA Design Organization Approval (DOA). If approved by the DOA, the approval must include the DOA-authorized signature.

Costs of Compliance

The FAA estimates that this AD affects 28 helicopters of U.S. registry. Labor rates are estimated at $85 per work-hour. Based on these numbers, the FAA estimates the following costs to comply with this AD.

Inspecting the M/R blades takes about 10 work-hours for an estimated cost of $850 per helicopter and $23,800 for the U.S. fleet, per inspection cycle. Sending the film for analysis, which is considered a reporting requirement in this AD, takes about 1 work-hour for an estimated cost of $85 per helicopter and $2,380 for the U.S. fleet, per inspection cycle.

The FAA has no way of determining the costs pertaining to the film analysis or any necessary repairs.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-26-24 Leonardo S.p.a. (Type Certificate Previously Held by Agusta S.p.A.): Amendment 39-21883; Docket No. FAA-2021-0948; Project Identifier MCAI-2020-00394-R.

(a) Effective Date

This airworthiness directive (AD) is effective February 22, 2022.

(b) Affected ADs

None.

(c) Applicability

This AD applies to Leonardo S.p.a. (type certificate previously held by Agusta S.p.A.) Model A109A and A109A II helicopters, certificated in any category, with a main rotor (M/R) blade part number 109-0103-01-115 installed.

(d) Subject

Joint Aircraft Service Component (JASC) Code: 6210, Main Rotor Blades.

(e) Unsafe Condition

This AD was prompted by a report of internal corrosion of the spar of an M/R blade. The FAA is issuing this AD to prevent failure of an M/R blade due to corrosion on the internal surface of the spar. The unsafe condition, if not addressed, could result in loss of control of the helicopter.

(f) Compliance

Comply with this AD within the compliance times specified, unless already done.

(g) Required Actions

For each M/R blade identified in paragraph (c) of this AD:

(1) Within 50 hours time-in-service or 3 months after the effective date of this AD, whichever occurs first, unless already done within the last 24 months for the M/R blade, and thereafter, at intervals not to exceed 24 months for the M/R blade, inspect the M/R blade by following the Accomplishment Instructions, paragraphs 1. through 5., of Leonardo Helicopters Alert Service Bulletin No. 109-155, dated March 13, 2020.

(2) Before further flight, send the film for analysis and accomplish repair in accordance with a method approved by the Manager, General Aviation & Rotorcraft Section, International Validation Branch, FAA; or European Union Aviation Safety Agency (EASA); or Leonardo S.p.a Helicopters' EASA Design Organization Approval (DOA). If approved by the DOA, the approval must include the DOA-authorized signature.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Kristi Bradley, Program Manager, COS Program Management Section, Operational Safety Branch, FAA, 10101 Hillwood Pkwy., Fort Worth, TX 76177; telephone (817) 222-5110; email kristin.bradley@faa.gov.

(2) The subject of this AD is addressed in EASA AD 2020-0065, dated March 20, 2020. You may view the EASA AD at https://www.regulations.gov in Docket No. FAA-2021-0948.

(j) Material Incorporated by Reference

(1) The Director of the Federal Register approved the incorporation by reference of the service information listed in this paragraph under 5 U.S.C. 552(a) and 1 CFR part 51.

(2) You must use this service information as applicable to do the actions required by this AD, unless this AD specifies otherwise.

(i) Leonardo Helicopters Alert Service Bulletin No. 109-155, dated March 13, 2020.

(ii) [Reserved]

(3) For Leonardo Helicopters service information identified in this AD, contact Leonardo S.p.A. Helicopters, Emanuele Bufano, Head of Airworthiness, Viale G. Agusta 520, 21017 C. Costa di Samarate (Va) Italy; telephone +39-0331-225074; fax +39-0331-229046; or at https://customerportal.leonardocompany.com/en-US/.

(4) You may view this service information at the FAA, Office of the Regional Counsel, Southwest Region, 10101 Hillwood Pkwy., Room 6N-321, Fort Worth, TX 76177. For information on the availability of this material at the FAA, call (817) 222-5110.

(5) You may view this material that is incorporated by reference at the National Archives and Records Administration (NARA). For information on the availability of this material at NARA, email fr.inspection@nara.gov, or go to: https://www.archives.gov/federal-register/cfr/ibr-locations.html.

Issued on December 16, 2021.
Lance T. Gant,
Director, Compliance & Airworthiness Division, Aircraft Certification Service.

[FR Doc. 2022-00759 Filed 1-14-22; 8:45 am]

BILLING CODE 4910-13-P